DEPARTMENT OF ENERGY

Federal Energy Regulatory Commission

18 CFR Part 11

[Docket No. RM11-6-000]

Annual Update to Fee Schedule for the Use of Government Lands by Hydropower Licensees; Correction

AGENCY: Federal Energy Regulatory Commission,DOE.

ACTION: Correcting amendment.

SUMMARY: This document contains corrections to the final rule (RM11-6-000) which published in the Federal Register on Tuesday, March 7, 2017 (82 FR 12717). The Final Rule provided the annual update to the fee schedule in Appendix A to Part 11, which lists per-acre rental fees by county (or other geographic area) for use of government lands by hydropower licensees and updated Appendix A to Part 11 with the fee schedule of per-acre rental fees by county (or other geographic area) from October 1, 2016, through September 30, 2017 (Fiscal Year 2017).

DATES: Effective February 7, 2018, and is applicable beginning October 1, 2016.

FOR FURTHER INFORMATION CONTACT: Norman Richardson, Financial Management Division, Office of the Executive Director, Federal Energy Regulatory Commission, 888 First Street NE, Washington, DC 20426, (202) 502-6219, Norman.Richardson@ferc.gov.

SUPPLEMENTARY INFORMATION:

On February 28, 2017, the Commission issued an Annual Update to Fee Schedule for the Use of Government Lands for Hydropower Licensees in the above-captioned proceeding. Pursuant to Annual Charges for the Use of Government Lands in Alaska, Order No. 838, 83 FR 1 (Jan. 2, 2018), FERC Stats. & Regs. ¶ 61,281 (2017), this document updates the per-acre rental fees for the State of Alaska, as reflected in the caption below.

List of Subjects in 18 CFR Part 11

Public lands.

Accordingly, 18 CFR part 11 is corrected by making the following correcting amendment:

PART 11—[AMENDED]

1. The authority citation for part 11 continues to read as follows:

Authority: 16 U.S.C. 792-828c; 42 U.S.C. 7101-7352.

2. Appendix A to Part 11 is amended by:

a. Revising the entries under “Alaska”; and

b. Removing footnote 1.

The revisions read as follows:

Appendix A to Part 11—Fee Schedule for FY 2017

State | County | Fee/acre/yr
* * * * * * *
Alaska | Aleutian Islands Area | $1.02
| Statewide per-acre | $36.53
* * * * * * *

Issued: February 1, 2018.
Kimberly D. Bose,
Secretary.

[FR Doc. 2018-02412 Filed 2-6-18; 8:45 am]

BILLING CODE 6717-01-P